DEPARTMENT OF THE INTERIOR

National Park Service

[NPS-AKR-DENA-KOVA-DTS-13608; PPAKAKROR4; PPMPRLE1Y.LS0000]

Kobuk Valley National Park Subsistence Resource Commission (SRC) and the Denali National Park SRC; Meetings

AGENCY: National Park Service, Interior.

ACTION: Meeting notice.

SUMMARY: As required by the Federal Advisory Committee Act (Public Law 92-463, 86 Stat. 770), the National Park Service (NPS) is hereby giving notice that the Kobuk Valley National Park Subsistence Resource Commission (SRC) and the Denali National Park SRC will hold meetings to develop and continue work on NPS subsistence program recommendations and other related subsistence management issues. The NPS SRC program is authorized under Title VIII, Section 808 of the Alaska National Interest Lands Conservation Act, Public Law 96-487.

Kobuk Valley National Park SRC Meeting Date And Location: The Kobuk Valley National Park SRC will meet from 1:00 p.m. to 5:00 p.m. on Tuesday, September 3, 2013, and from 9:00 a.m. to 5:00 p.m. on Wednesday, September 4, 2013, at the NPS Northwest Alaska Heritage Center in Kotzebue, AK. If additional time is needed, the SRC will meet on Wednesday, September 11, 2013, from 10:00 a.m. to 1:30 p.m. or until business is completed. For more detailed information regarding this meeting, contact Designated Federal Official Frank Hays, Superintendent, at (907) 442-3890; or Clarence Summers, Subsistence Manager, at (907) 644-3603. If you are interested in applying for Kobuk Valley National Park SRC membership, contact the Superintendent at P.O. Box 1029, Kotzebue, AK 99752, or visit the park Web site at: http://www.nps.gov/kova/contacts.htm.

Denali National Park SRC Meeting Date and Location: The Denali National Park SRC will meet from 10:00 a.m. to 5:00 p.m. or until business is completed on Saturday, October 5, 2013, at the Cantwell Community Hall, Cantwell, AK. For more detailed information regarding this meeting, contact Designated Federal Official Don Striker, Superintendent, at (907) 683-9581 or Clarence Summers, Subsistence Manager, at (907) 644-3603. If you are interested in applying for Denali National Park SRC membership, contact the Superintendent at P.O. Box 9, Denali Park, AK 99755, or visit the park Web site at: http://www.nps.gov/dena/contacts.htm.

SRC Proposed Meeting Agenda:

The proposed meeting agenda for each meeting includes the following:

1. Call to Order—Confirm Quorum

2. Welcome and Introduction

3. Review and Adoption of Agenda

4. Approval of Minutes

5. Welcome by Local Community

6. Superintendent's Welcome and Review of the Commission Purpose

7. Commission Membership Status

8. SRC Chair and Members' Reports

9. Superintendent's Report

10. Old Business

11. New Business

12. Federal Subsistence Board Update

13. Alaska Boards of Fish and Game Update

14. National Park Service Reports

a. Ranger Update

b. Resource Management Update

c. Subsistence Manager's Report

15. Public and Other Agency Comments

16. Work Session

17. Set Tentative Date and Location for Next SRC Meeting

18. Adjourn Meeting

SRC meeting locations and dates may change based on inclement weather or exceptional circumstances. If the meeting date and location are changed, the Superintendent will issue a press release and use local newspapers and radio stations to announce the meeting.

SUPPLEMENTARY INFORMATION: These meetings are open to the public and will have time allocated for public testimony. The public is welcome to present written or oral comments to the SRC. The meetings will be recorded and meeting minutes will be available upon request from the Park Superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

Dated: August 15, 2013.
Alma Ripps,
Chief, Office of Policy.

[FR Doc. 2013-20284 Filed 8-19-13; 8:45 am]

BILLING CODE 4312-EF-P